FEDERAL COMMUNICATIONS COMMISSION

47 CFR Part 73

[MB Docket No. 11-147; DA 12-513]

Radio Broadcasting Services; Alamo, GA; Alton, MO; Boscobel, WI; Buffalo, OK; Cove, AR; Clayton, LA; Daisy, AR; Ennis, MT; Erick, OK; Grayville, IL; Harrison, MI; Haworth, OK; Leedey, OK; Owen, WI; Reydon, OK; Taloga, OK; Thomas, OK; Tigerton, WI; Weinert, TX; and Wright City, OK

AGENCY: Federal Communications Commission.

ACTION: Final rule.

SUMMARY: The Audio Division, on its own motion, deletes eighteen vacant allotments in various communities in Arkansas, Georgia, Illinois, Louisiana, Missouri, Montana, Oklahoma, Texas, and Wisconsin. These vacant allotments have been auctioned through our competitive bidding process, and are considered unsold permits that were included in Auction 91. We are deleting these vacant allotments from the FM Table, because there were no bona fide expressions of interest filed to retain these eighteen vacant allotments. Deletion of these allotments may create other opportunities in nearby communities for new FM allotments or upgrades of existing stations. We conclude that the deletion of these vacant allotments could promote a more effective and efficient use of the FM broadcast spectrum. The Commission's policy is not to delete a FM allotment where a bona fide expression of interest exists, absent a compelling reason to do so. Accordingly, we will not delete Channel 280A at Harrison, Michigan and Channel 295A at Tigerton, Wisconsin because bona fide expressions of interest were filed to retain these vacant channels for a future auction.

DATES: Effective January 22, 2015.

FOR FURTHER INFORMATION CONTACT: Rolanda F. Smith, Media Bureau, (202) 418-2700.

SUPPLEMENTARY INFORMATION: This is a synopsis of the Commission's Report and Order, MB Docket No. 11-147, adopted March 30, 2012, and released April 2, 2012. The full text of this document is available for inspection and copying during normal business hours in the FCC's Reference Information Center at Portals II, CY-A257, 445 Twelfth Street SW., Washington, DC 20554. The complete text of this document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of the Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Amend § 73.202(b) Table of FM Allotments as follows:

a. Remove Cove, under Arkansas, Channel 232A and Daisy, Channel 293C3.

b. Remove Alamo, under Georgia, Channel 287C3.

c. Remove Grayville, under Illinois, Channel 229A.

d. Remove Clayton, under Louisiana, Channel 266A.

e. Remove Alton, under Missouri, Channel 290A.

f. Remove Buffalo, under Oklahoma, Channel 224C2; Erick, Channel 259C2; Haworth, Channel 294A; Leedey, Channel 297A; Reydon, Channel 264C2; Taloga, Channel 226A; Thomas, Channel 288A; and Wright City, Channel 226A.

g. Remove Weinert, under Texas, Channel 266C3.

h. Remove Boscobel, under Wisconsin, Channel 244C3; and Owen, Channel 242C3.

[FR Doc. 2015-01017 Filed 1-21-15; 8:45 am]

BILLING CODE 6712-01-P